DEPARTMENT OF LABOR

Employment and Training Administration

[TA-W-52,518]

Paper Converting Machine Co., Green Bay, WI; Notice of Termination of Investigation

Pursuant to Section 221 of the Trade Act of 1974, as amended, an investigation was initiated on August 11, 2003 in response to a worker petition filed by the United Auto Workers Union Local 1102, on behalf of workers at Paper Converting Machine Company, Green Bay, Wisconsin.

The petitioner has requested that the petition be withdrawn. Consequently, the investigation has been terminated.

Signed at Washington, DC, this 15th day of August, 2003.
Elliott S. Kushner,
Certifying Officer, Division of Trade Adjustment Assistance.

[FR Doc. 03-22279 Filed 8-29-03; 8:45 am]

BILLING CODE 4510-30-P